DEPARTMENT OF AGRICULTURE

Grain Inspection, Packers and Stockyards Administration

Advisory Committee Meeting

AGENCY: Grain Inspection, Packers and Stockyards Administration, USDA.

ACTION: Notice of advisory committee meeting.

SUMMARY: Pursuant to the Federal Advisory Committee Act, this constitutes notice of the upcoming meeting of the Grain Inspection Advisory Committee (“the Committee”).

DATES: May 3, 7:30 a.m. to 4:30 p.m.; and May 4, 2005, 7:30 a.m. to Noon.

ADDRESSES: The Advisory Committee meeting will take place at the Embassy Suites Hotel, Kansas City Plaza, 220 West 43rd Street, Kansas City, MO.

Requests to address the Committee at the meeting or written comments may be sent to: Deputy Administrator, GIPSA, U.S. Department of Agriculture, 1400 Independence Avenue, SW., STOP 3614, Washington, DC 20250-3614. Requests and comments may also be Faxed to (202) 690-2755.

FOR FURTHER INFORMATION CONTACT: Ms. Terri Henry, (202) 205-8281 (telephone); (202) 690-2755 (facsimile).

SUPPLEMENTARY INFORMATION: The purpose of the Committee is to provide advice to the Administrator of the Grain Inspection, Packers and Stockyards Administration with respect to the implementation of the U.S. Grain Standards Act (7 U.S.C. 71 et seq.).

The agenda will include a status report on the reauthorization of the U.S. Grain Standards Act, financial update of grain inspection user fee programs, next steps concerning the potential outsourcing of rice inspection, restructuring the oversight of the official agencies, preliminary review of revised quality assurance procedures, status of designating private companies in South Texas and California to provide inspection services, new requirements for inspecting grain exported in containers, review of pros and cons to using a single instruction to measure both moisture and test weight per bushel, and other general Agency issues.

For a copy of the agenda please contact Terri Henry, (202) 205-8281 (telephone); (202) 690-2755 (facsimile) or by e-mail Terri.L.Henry@usda.gov.

Public participation will be limited to written statements, unless permission is received from the Committee Chairman to orally address the Committee. The meeting will be open to the public.

Persons with disabilities who require alternative means of communication of program information or related accommodations should contact Terri Henry, at the telephone number listed above.

David Orr,
Acting Administrator.

[FR Doc. 05-6706 Filed 4-4-05; 8:45 am]

BILLING CODE 3410-EN-P